DEPARTMENT OF ENERGY

Federal Energy Regulatory Commission

[Project Nos. 2699-001, 2019-017 and 11563-002-California]

Utica Power Authority, Northern California Power Agency; Notice of Intention to Hold a Public Meeting for Discussion of the Environmental Assessment for the Upper Utica, Utica, and Angels Projects

June 26, 2002.

On May 29, 2002, the Commission staff mailed an Environmental Assessment (EA) for the Upper Utica, Utica, and Angels Projects to resource and land management agencies, and interested organization and individuals.

The EA was noticed in the Federal Register on June 4, 2002 (Vol. 67, Number 107), and comments are due July 29, 2002. The EA was prepared by Commission staff, with the U.S. Forest Service as a cooperating agency. The Upper Utica, Utica, and Angels Projects are located on the North Fork Stanislaus River, Silver Creek, Mill Creek, and Angels Creek in Alpine, Calaveras, and Tuolumne Counties, California, partially within the Stanislaus National Forest. The EA contains our analysis of the potential environmental impacts of the project and concludes that licensing the project, with appropriate environmental protective measures, would not constitute a major federal action that would significantly affect the quality of the human environment.

A public meeting, which will be recorded by an official stenographer, is scheduled on Tuesday, July 9, from 7:30 p.m. to 9 p.m. at Bret Harte High School, 354 Murphys Grade Road, Angels Camp, California. At this meeting, resource agency personnel and other interested persons will have the opportunity to provide oral and written comments regarding the EA for the Commission's public record.

For further information, please contact Timothy Welch at (202) 219-2666, timothy.welch@ferc.gov, Federal Energy Regulatory Commission, Office of Energy Projects, 888 First St. NE., Washington, DC 20426.

Linwood A. Watson, Jr.,
Deputy Secretary.

[FR Doc. 02-16618 Filed 7-1-02; 8:45 am]

BILLING CODE 6717-01-P